FEDERAL COMMUNICATIONS COMMISSION

[FR ID: 179690]

Privacy Act of 1974; System of Records

AGENCY: Federal Communications Commission.

ACTION: Notice of a modified system of records.

SUMMARY: The Federal Communications Commission (FCC, Commission, or Agency) proposes to modify an existing system of records, FCC/WTB-1, Wireless Services Licensing Records, subject to the Privacy Act of 1974, as amended. This action is necessary to meet the requirements of the Privacy Act to publish in the Federal Register notice of the existence and character of records maintained by the agency. The Commission uses records in this system to administer the Commission's regulatory responsibilities including licensing, enforcement, rulemaking, and other actions necessary to perform spectrum management duties. This modification makes various necessary changes and updates, including formatting changes required by the Office of Management and Budget (OMB) Circular A-108 since its previous publication, the addition of four new routine uses, as well as the revision of six existing routine uses and the deletion of one existing routine use.

DATES: This modified system of records will become effective on October 19, 2023. Written comments on the routine uses are due by November 20, 2023. The routine uses in this action will become effective on November 20, 2023 unless comments are received that require a contrary determination.

ADDRESSES: Send comments to Katherine C. Clark, Attorney-Advisor, Office of General Counsel, Federal Communications Commission, 45 L Street NE, Washington, DC 20554, or to privacy@fcc.gov.

FOR FURTHER INFORMATION CONTACT: Katherine C. Clark, (202) 418-1773, or privacy@fcc.gov (and to obtain a copy of the Narrative Statement and the Supplementary Document, which includes details of the modifications to this system of records).

SUPPLEMENTARY INFORMATION: This notice serves to update and modify FCC/WTB-1, as a result of various necessary changes and updates. The substantive changes and modifications to the previously published version of the FCC/WTB-1 system of records include:

1. Updating the language in the Security Classification to follow OMB guidance;

2. Updating the language in the Purposes section for clarity and for consistency with the language and phrasing currently used in the FCC's SORNs and to include collecting and maintaining information to allow staff access to documents necessary for key activities discussed in this SORN, including analyzing effectiveness and efficiency of FCC programs, informing future rule-making and policy-making activity, and improving staff efficiency;

3. Modifying the language in the Categories of Individuals and Categories of Records for clarity and for consistency with the language and phrasing currently used in the FCC's SORNs;

4. Updating and/or revising language in six routine uses (listed by current routine use number): (1) Public Access; (2) Litigation and (3) Adjudication (now two separate routine uses); (5) Law Enforcement and Investigation; (6) Congressional Inquiries; and (7) Government-wide Program Management and Oversight;

5. Adding four new routine uses (listed by current routine use number): (4) FCC Enforcement Actions; (8) Breach Notification, the addition of which is as required by OMB Memorandum No. M-17-12; (9) Assistance to Federal Agencies and Entities Related to Breaches, the addition of which is required by OMB Memorandum No. M-17-12; and (10) Non-Federal Personnel;

6. Deleting one prior routine use (listed by former routine use number) (2) Financial Obligations Under the Debt Collection Acts, which does not reflect how the FCC has used or disclosed records from this system;

7. Updating the SORN to include the records schedule “Universal Licensing System” Records Schedule, Number N1-173-08-001.

The system of records is also updated to reflect various administrative changes related to the system managers and system addresses; policy and practices for storage and retrieval of the information; administrative, technical, and physical safeguards; and updated notification, records access, and contesting records procedures.

SYSTEM NAME AND NUMBER:

FCC/WTB-1, Wireless Services Licensing Records.

SECURITY CLASSIFICATION:

No information in the system is classified.

SYSTEM LOCATION:

Wireless Telecommunications Bureau (WTB), Federal Communications Commission (FCC), 45 L Street NE, Washington, DC 20554.

SYSTEM MANAGER:

Chief, Wireless Telecommunications Bureau (WTB), Federal Communications Commission (FCC), 45 L Street NE, Washington, DC 20554.

AUTHORITY FOR MAINTENANCE OF THE SYSTEM:

31 U.S.C. 7701; and 47 U.S.C. 301, 303, 309, 312, 362, 364, 386, 507, and 510.

PURPOSES OF THE SYSTEM:

The FCC uses the information in this system for purposes that include, but are not limited to:

1. To provide public access to pending requests for authorizations and information regarding current licenses and leases;

2. To provide public access to license data, which promotes the economically efficient allocation of spectrum and the resolution of radio interference problems;

3. To determine the availability of spectrum for licensing;

4. To determine when compliance filings, renewal applications, and fees are due from licensees;

5. To resolve disputes between radio operators regarding who has certain rights to use particular frequency bands in particular geographic areas;

6. To resolve cross border disputes, on occasion—e.g., dispute(s) with entities operating in Canada and Mexico;

7. To allow licensees to transfer, assign, or lease their interests in particular licenses or portions of licenses as the rules permit (after agency approval);

8. To evaluate the completeness and sufficiency of requests for new or modified authorizations;

9. To provide reports to a variety of Federal officials on the current uses and utilization of the spectrum the FCC is charged with regulating;

10. To collect and maintain information to allow staff access to documents necessary for key activities discussed in this SORN, including analyzing effectiveness and efficiency of related FCC programs and informing future rule-making and policy-making activity; and improving staff efficiency.

CATEGORIES OF INDIVIDUALS COVERED BY THE SYSTEM:

The categories of individuals whose records are maintained in this system include, but are not limited to: licensees, lessees, applicants (including persons or entities with attributable interests therein), and entities or individuals who participate in relevant FCC proceedings; tower owners; and contact persons relating to radio systems licensed or processed by the WTB under parts 13, 22, 24, 27, 74, 80, 87, 90, 95, 97, and 101 of the Commission's Rules (Wireless Services).

CATEGORIES OF RECORDS IN THE SYSTEM:

The categories of records in this system include, but are not limited to:

1. Applications, requests for authorization, and related pleadings, all of which may include contact information and other personally identifiable information (PII);

2. Forms 175, 601, 602, 603, 605, and 608 and related pleadings, all of which may include contact information and other (PII);

3. Authorizations, licenses, leases, and related pleadings, all of which may include contact information and other (PII);

4. Correspondence relating to applications, requests for authorization, FCC forms, authorizations, licenses, leases, and all related pleadings.

RECORD SOURCE CATEGORIES:

Sources of records include individuals conducting business with or participating in relevant proceedings of the FCC.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows.

1. Public Access—Records related to applications, requests for authorizations, authorizations, licenses, leases, and related pleadings and correspondence will be routinely made publicly available, with the exception of material which is afforded confidential treatment pursuant to a request made under 47 CFR 0.459.

2. Litigation—To disclose records to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the Department of Justice is for a purpose that is compatible with the purpose for which the FCC collected the records.

3. Adjudication—To disclose records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

4. FCC Enforcement Actions—When a record in this system involves an informal complaint filed alleging a violation of the Communications Act or FCC regulations or orders (FCC Rules and Regulations) by an applicant, licensee, certified or regulated entity, or an unlicensed person or entity, the complaint may be provided to the alleged violator for a response. Where a complainant in filing his or her complaint explicitly requests confidentiality of his or her name from public disclosure, the Commission will endeavor to protect such information from public disclosure. Complaints that contain requests for confidentiality may be dismissed if the Commission determines that the request impedes the Commission's ability to investigate and/or resolve the complaint.

5. Law Enforcement and Investigation—When the FCC investigates any violation or potential violation of a civil or criminal law, regulation, policy, executed consent decree, order, or any other type of compulsory obligation, to disclose pertinent information as it deems necessary with the target of an investigation, as well as with appropriate Federal, State, local, Tribal, international, or multinational agencies, or a component of such an agency, responsible for investigating, prosecuting, enforcing, or implementing a statute, rule, regulation, or order.

6. Congressional Inquiries—To provide information to a Congressional office from the record of an individual in response to an inquiry from that Congressional office made at the written request of that individual.

7. Government-wide Program Management and Oversight—To provide information to the Department of Justice (DOJ) to obtain that department's advice regarding disclosure obligations under FOIA; or to OMB to obtain that office's advice regarding obligations under the Privacy Act.

8. Breach Notification—To appropriate agencies, entities, and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize or remedy such harm.

9. Assistance to Federal Agencies and Entities Related to Breaches—To another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

10. Non-Federal Personnel—To disclose information to non-Federal personnel, including contractors, other vendors (e.g., identity verification services), grantees, and volunteers who have been engaged to assist the FCC in the performance of a contract, service, grant, cooperative agreement, or other activity related to this system of records and who need to have access to the records in order to perform their activity.

POLICIES AND PRACTICES FOR STORAGE OF RECORDS:

This an electronic system of records that resides on the FCC's network. Paper records that are not filed electronically are keyed into the system by FCC staff; such paper records are retained for one year and then destroyed.

POLICIES AND PRACTICES FOR RETRIEVAL OF RECORDS:

Information in the electronic database can be retrieved by searching electronically using a variety of parameters including name, a licensee's unique identifier, call sign, file number, etc.

POLICIES AND PRACTICES FOR RETENTION AND DISPOSAL OF RECORDS:

The information in this electronic system is maintained and disposed of in accordance with the “Universal Licensing System” Records Schedule, Number N1-173-08-001.

ADMINISTRATIVE, TECHNICAL, AND PHYSICAL SAFEGUARDS:

The electronic records, files, and data are stored within FCC or a vendor's accreditation boundaries and maintained in a database housed in the FCC's or vendor's computer network databases. Access to the electronic and paper files is restricted to authorized employees and contractors; and in the case of electronic files to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), OMB, and the National Institute of Standards and Technology (NIST).

RECORD ACCESS PROCEDURES:

Individuals wishing to request access to and/or amendment of records about themselves should follow the Notification Procedure below.

CONTESTING RECORD PROCEDURES:

Individuals wishing to request access to and/or amendment of records about themselves should follow the Notification Procedure below.

NOTIFICATION PROCEDURES:

Individuals wishing to determine whether this system of records contains information about themselves may do so by writing to privacy@fcc.gov. Individuals requesting record access or amendment must also comply with the FCC's Privacy Act regulations regarding verification of identity as required under 47 CFR part 0, subpart E.

EXEMPTIONS PROMULGATED FOR THE SYSTEM:

None

HISTORY:

71 FR 17269 (April 5, 2006)

Federal Communications Commission.
Marlene Dortch,
Secretary.

[FR Doc. 2023-23102 Filed 10-18-23; 8:45 am]

BILLING CODE 6712-01-P